EXPORT-IMPORT BANK OF THE UNITED STATES

12 CFR Part 404

[EXIM-OIG-2012-0010]

RIN 3048-AA02

Privacy Act of 1974: Implementation of Exemptions; Export-Import Bank of the United States Office of Inspector General—EIB-35—Office of Inspector General Investigative Records; Correction

AGENCY: Office of the Inspector General, Export-Import Bank of the United States.

ACTION: Final rule; correction.

SUMMARY: The Export-Import Bank of the United States (hereafter known as “Ex-Im Bank”) published in the Federal Register of July 17, 2012, a final rule to exempt portions of a system of records from one or more provisions of the Privacy Act. This document corrects an inaccurate amendatory instruction.

DATES: Effective August 16, 2012.

FOR FURTHER INFORMATION CONTACT: Osvaldo Gratacos, Ex-Im Bank, Office of Inspector General, 811 Vermont Avenue NW., Rm. 976, Washington, DC 20571 or by telephone (202) 565-3908 or facsimile (202) 565-3988.

SUPPLEMENTARY INFORMATION: The Ex-Im Bank published a document on July 17, 2012 (77 FR 41885-41886) exempting portions of a system of records entitled “EIB-35—Office of Inspector General Investigative Records” from one or more provisions of the Privacy Act. The document incorrectly added § 404.24 to subpart B of 12 CFR part 404. Section 404.24 currently exists in subpart C. The instruction should have revised 404.24, not added it.

Accordingly, in rule FR Doc. 2012-17382 published on July 17, 2012 (77 FR 41885-41886), make the following correction.

1. On page 41886, in the first column, amendatory instruction 2 is corrected to read as follows:

“2. Section 404.24 is revised to read as follows:”

Dated: July 17, 2012.
Sharon A. Whitt,
Agency Clearance Officer.

[FR Doc. 2012-17896 Filed 7-20-12; 8:45 am]

BILLING CODE 6690-01-P